ENVIRONMENTAL PROTECTION AGENCY

[ER-FRL-6679-4]

Environmental Impact Statements; Notice of Availability

Responsible Agency: Office of Federal Activities, General Information (202) 564-7167 or http://www.epa.gov/compliance/nepa/.

Weekly receipt of Environmental Impact Statements

Filed 9/11/2006 Through 9/15/2006

Pursuant to 40 CFR 1506.9.

EIS No. 20060378, Draft EIS, NPS, 00, Programmatic—Servicewide Benefits Sharing Project, To Clarify the Rights and Responsibilities of Researchers and National Park Service (NPS) Management in Connection with the Use of Valuable Discoveries, Inventions, and Other Developments, across the United States, Comment Period Ends: 12/15/2006,Contact: Susan M. Mills 307-344-2203.

EIS No. 20060379, Final EIS, BPA, OR, Klondike III Wind Project (300 megawatts {MW}) and Biglow Canyon Wind Farm (400 megawatts {MW}) Integration Project, Construction and Operation of a Double-Circuit 230-Kilovolt (kV) Transmission,Sherman County, OR, Wait Period Ends: 10/23/2006,Contact: Gene Lynard 503-230-3790.

EIS No. 20060380, Draft EIS, AFS, CO, Robin Redbreast Unpatented Lode Claim Mining Plan of Operations,Implementation, U.S. Army COE Section 404 Permit, Located above the Middle Fork of the Cimarron River within the Uncompahgre Wilderness, Ouray Ranger District, Grand Mesa, Uncompahgre and Gunnison National Forests, Hinsdale County, CO, Comment Period Ends: 11/06/2006, Contact: Jeff Burch 970-874-6649.

EIS No. 20060381, Final EIS, AFS, WV, Programmatic—Monongahela National Forest Plan Revision,Proposes to Revise Land and Resource Management Plan, Barbour,Grant, Greebrier, Nicholas, Pendleton, Pocahontab, Preston,Randolph, Tucker and Webster Counties, WV, Wait Period Ends:10/23/2006, Contact: Anita Kelley 304-636-1800 Ext. 324.

EIS No. 20060382, Final EIS, BLM, 00, Lake Havasu Field Office Resource Management Plan,Implementation, Colorado River, Davis Dam in the north and south to Park Dam, CA and AZ, Wait Period Ends: 10/23/2006, Contact: Gine Trafton 1-888-213-2582 Ext 273.

EIS No. 20060383, Draft EIS, NPS, 00, South Florida and Caribbean Parks Exotic Plant Management Plan,Manage and Control Exotic Plants in Nine Parks, Five in South Florida Parks: Big Cypress National Preserve, Biscayne National Park, Canaveral National Seashore, Dry Tortugas National Park,Everglades National Park and Four in Caribbean Parks: Buck Island Reef National Monument, Christiansted National Historic Site,Salt River Bay National Historic Park and Ecological Preserve and Virgin Islands National Park, Florida and Caribbean,Comment Period Ends: 11/20/2006, Contact: Sandra Hamilton 303-969-2068.

EIS No. 20060384, Final EIS, NRS, KY Rockhouse Creek Watershed Plan, To Protect Regimental and Non-residential Structures from Recurrent Flood Problem, Leslie County, KY, Wait Period Ends: 10/23/2006,Contact: Anita Arends 859-224-7354.

EIS No. 20060385, Final EIS, COE, WV, Spruce No. 1 Mine, Construction and Operation, Mining for 2.73 Million Ton of Bituminous Coal, NPDES Permit and U.S. Army COE

Section 404 Permit, Logan County, WV, Wait Period Ends:10/23/2006, Contact: Teresa Spagna 304-399-5710.

EIS No. 20060386, Final Supplement, AFS, WI, Northwest Howell Vegetation Management Project, New Information to Address Inadequate Disclosure of the Cumulative Effects Analysis for Six Animal and Two Plant Species, Eagle River-Florence Ranger District, Chequamegon-Nicole National Forest, Florence and Forest Counties, WI, Wait Period Ends:10/23/2006, Contact: Brian Quinn 715-762-5176.

Amended Notices

EIS No. 20060295, Draft EIS, BLM, WY, Casper Field Office Planning Area Resource Management Plan,Implementation, Natrona, Converse, Goshen, and Platte Counties,WY, Comment Period Ends: 10/19/2006,Contact: Linda Stone 307-261-7600.Revision to FR Notice Published 07/21/2006: Extended Comment Period from 09/18/2006 to 10/19/2006.

EIS No. 20060315, Draft EIS, AFS, CA, Antelope-Pardee 500kV Transmission Project, Construct, Operate and Maintain a New 25.6 mile 500kV Transmission Line,Right-of-Way Permit and Special Use Authorization, Angeles National Forest, Los Angeles County, CA, Comment Period Ends:10/03/2006, Contact: Marian Kadota 805-961-5732.Revision of FR Notice Published 08/04/2006: Extended Comment Period from 09/18/2006 to 10/03/2006.

EIS No. 20060357, Draft EIS, COE, CA, Hemet/San Jacinto Integrated Recharge and Recovery Program,Construction and Operation, U.S. Army COE Section 404 Permit,Riverside County, CA, Comment Period Ends: 10/20/2006, Contact:

Dr. Daniel P. Swenson 213-452-3414.

Revision of FR Notice Published 09/01/2006: Correction to Comment Period from 10/16/2006 to 10/20/2006.

EIS No. 20060361, Draft Supplement, NRS, WV, Lost River Subwatershed of the Potomac River Watershed Project,Construction of Site 16 on Lower Cove Run and Deletion of Site 23 on Upper Cove Run, U.S. Army COE Section 404 Permit, Hardy County, WV, Comment Period Ends: 10/25/2006, Contact:Ronald L. Hilliard 304-284-7560.

Revision of FR Notice Published 9/8/2006: Correction to Document Status from Draft Supplement to Draft.

Dated: September 19, 2006.
Robert W. Hargrove,
Director, NEPA Compliance Division, Office of Federal Activities.

[FR Doc. 06-8103 Filed 9-21-06; 8:45 am]

BILLING CODE 6560-50-P